DEPARTMENT OF TRANSPORTATION

National Highway Traffic Safety Administration

Discretionary Cooperative Agreement To Support a Teen Occupant Protection Campaign

AGENCY: National Highway Traffic Safety Administration (NHTSA), DOT.

ACTION: Announcement of Cooperative Agreement(s) to support Teen Occupant Protection Campaign.

SUMMARY: The National Highway Traffic Safety Administration (NHTSA) announces a discretionary Cooperative Agreement program under Section 403 to provide funding for one or two States to support a Teen Occupant Protection Campaign. NHTSA anticipates funding this Cooperative Agreement for a period of three years. This notice solicits applications from applicable State agencies (e.g., highway safety offices, motor vehicle administrations, law enforcement agencies, and others), traffic safety organizations, or a consortium of agencies/organizations, for funds to be made available in fiscal year (FY) 2004. Interested applicants must submit an application packet that meets the requirements set forth in the application section of this notice. NHTSA will review the applications to determine which State agency will receive funding under this announcement.

DATES: Applications must be received by the office designated below on or before July 9, 2004, at 3 p.m., e.d.t.

ADDRESSES: Applications must be submitted to the National Highway Traffic Safety Administration, Office of Contracts and Procurement (NPO-220), Attn: Ross S. Jeffries, Contract Specialist, 400 7th Street, SW., Room 5301, Washington, DC 20590. All applications submitted must include a reference to NHTSA Cooperative Agreement Number: DTNH22-04-H-05111.

SUPPLEMENTARY INFORMATION:

Background

Scope of the Problem

The National Highway Traffic Safety Administration (NHTSA) is the Federal agency assigned to implement the National Initiative for Increasing Seat Belt Use Nationwide, being carried out under the Buckle Up America Campaign. Safety belts have proven to be the most effective occupant protection device in saving lives and preventing injuries in motor vehicle crashes. Restraint use, while crucial for any vehicle occupant, is especially critical for young people between the ages of 16 and 20. Motor vehicle crashes are the leading cause of death for 16 to 20 year olds in the United States. In 2002, the fatality rate in motor vehicle crashes for 16-20-year-olds was approximately twice the rate for all other ages. There are many reasons; for instance, while teens are learning the new skills needed for driving, many frequently engage in high-risk behaviors, such as speeding, underage drinking, and/or not using their safety belt. In 2002, 5,625 teens were killed in passenger vehicles involved in motor vehicle crashes, and more than 60 percent of those killed were not buckled up.

Effective Strategies To Increase Safety Belt Use for Teens

A comprehensive review of the scientific literature, State and Federal Government reports, and other sources of information was recently conducted by NHTSA to determine the scope of teen fatalities and injuries due to the non-use of safety belts and to identify and summarize programs, interventions, and strategies that can potentially increase safety belt usage by teens. According to this review, proven effective strategies that increase safety belt usage in the general population have the most immediate and greatest potential for increasing teen safety belt usage. These include upgrading State safety belt laws to primary enforcement and conducting highly publicized enforcement of these laws. Strategies that were identified as possibly being effective for teens included enforcement of Graduated Driver Licensing (GDL) laws that explicitly include requirements for safety belt usage in all three phases of licensure and provide sanctions that prohibit “graduation” to the next licensing phase if there is a safety belt citation. The review also found that a combination of strategies seems to work better than one alone. A community program including education, diversity outreach, highly publicized enforcement, and parental involvement would likely have a substantial effect on teen belt use. However, these strategies would probably need to be sustained for the effect to last over time.

GDL has proven to be effective at reducing high-risk driving behaviors and reducing crashes involving young drivers. GDL is a system for phasing in on-road driving, allowing beginner drivers to get their initial experience under conditions that involve lower risk and introducing them in stages to more complex driving situations. GDL addresses young risk takers by limiting their driving privileges for driving violations. In some States, failure to wear a safety belt is considered a driving violation and may be subject to a sanction, such as an increased fine or delayed progress through the GDL levels.

High-visibility enforcement has been effective in increasing safety belt use in the general population through the Click It or Ticket Campaign. In jurisdictions where license advancement is contingent on maintaining a violation-free driving record, general high-visibility enforcement can be particularly beneficial. In addition to the documented deterrent effect of such programs, these efforts should also discourage violation of GDL restrictions, since detection of such an infraction would then delay progression to the next licensing level.

While many GDL laws either include safety belt use as a provision, or provide for a sanction if a safety belt violation occurs, most teens and most parents are not aware of this requirement in GDL. For example, in a recent North Carolina study (Foss et al., 2004 in press) only 5 percent of parents and 3 percent of teenagers were aware of the safety belt requirement. If safety belt requirements and consequences for safety belt violations were publicized, this element of GDL could substantially increase safety belt usage by teens in the future, especially because teens believe that they are relatively likely to be cited for traffic violations.

Law enforcement officers also are often unaware of the GDL law in their State and do not enforce it vigorously. Priority research needs identified at the Symposium on Graduated Drivers Licensing: Documenting the Science of GDL (Journal of Safety Research 34 (1), 2003) included a recommendation to study methods to increase GDL enforcement by police, and ascertain if a stronger connection between GDL and other traffic laws could make GDL enforcement easier. Safety belt and zero Blood Alcohol Concentration (BAC) laws appeared to be especially relevant.

Campaign Objective

The objective of this Cooperative Agreement is to increase safety belt use among young drivers. This will be accomplished by testing the benefit of a safety belt provision within a State's GDL law, and demonstrating under which conditions the provision is most effective. It is hypothesized that having a safety belt provision and a related penalty/sanction within the GDL law will increase safety belt use among teens/young drivers because they will not want to risk receiving a fine or delaying “graduation” to their intermediate or full license.

Thus, to be eligible for this cooperative agreement, the applicant's State must have a safety belt provision and related sanction in its GDL law, or have such a provision by the time of the award. For example, in North Carolina, before graduating to Level Two (the intermediate license), a young driver must keep their permit for at least 12 months and have no moving violation convictions or safety belt infractions within the preceding six months.

Campaign Strategies

To increase safety belt use among young drivers, this Cooperative Agreement will support the implementation of three primary strategies: (1) a social marketing campaign that highlights the State's GDL safety belt provision; (2) promotion of the State's safety belt provision within the GDL law; and (3) education of law enforcement about GDL laws and increased participation of law enforcement in high-visibility enforcement of the law; thus, increase the awareness of young drivers that there are consequences when they violate GDL provisions and, in the process, reduce their perception that they are immune to such consequences.

The applicant may consider a variety of program designs utilizing the above strategies. However, the first strategy—a social marketing campaign—shall be included in all of the designs.

Preference will be given to applicants who design their program to have an experimental condition and a control condition. For instance, the applicant may decide to test some or all of the strategies (e.g., promotion of the safety belt provision, implementation of a social marketing campaign, and high-visibility enforcement) in one part of the State (or in selected communities) and have a control site where there are no strategies implemented in another part of the State. A State also may decide to enhance a strategy in one condition, such as adding checkpoints to the heightened enforcement. This will allow comparison of strategies and the ability to identify which strategy, or combination of strategies, works best. Some conditions to consider in the program design are:

1. Social marketing campaign/media, promotion of safety belt provision, and heightened law enforcement.

2. Social marketing campaign with no extra enforcement.

3. Social marketing campaign/media and checkpoints added to heightened enforcement.

To be considered for an award under this Cooperative Agreement, the applicant shall include in its application a detailed plan and timeline for how they will implement all or a combination of these strategies and how the strategies will be designed and evaluated in the State. It is anticipated that project activities/implementation will occur over a period of six-months to a year.

(1) Social Marketing Campaign

Social marketing suggests that to change behavior(s), one must identify the core values of the target audience and develop messages and delivery mechanisms that will resonate with this audience. In the case of increasing safety belt use for young drivers, the value they regard the most may not necessarily be “safety.” More likely young drivers value the influence of their peers, or the importance of independence and autonomy.

The purpose of the campaign is to promote the safety belt provision and its related sanction. The messaging developed for this initiative must reflect this provision. To be considered for an award under this Cooperative Agreement, the messaging developed for this initiative by applicants also must concentrate on a core value of teens and how to influence that value to create behavior change (i.e., increase safety belt use). For instance, young drivers place a very high value on independence and freedom. One way to achieve increased independence is to have a driver's license. Messaging would then emphasize that the freedom and independence (the core value) that comes with a license can be achieved if young drivers adhere to the safety belt provision in the GDL law of their state. The messaging also must highlight that the law is being enforced, and that violation of the law can result in delay of licensure. Messages must be pre-tested to ensure they are reaching the intended young driver audience.

Applicants shall develop a social marketing process that consists of, at a minimum: Planning; Message and Materials Development; Pre-testing; Implementation; and, Evaluation and Feedback. A major component of marketing the campaign will be the use of media. Applicants shall include in their implementation plan the use of earned and paid media, and submit an outline of the media channels/media buy plan that will be used.

(2) Promote Graduated Driver Licensing (GDL) Safety Belt Provision

Raising awareness about and promoting the State's safety belt provision is a potential strategy for this initiative. If applicants propose this strategy, they must address how they will build awareness about the safety belt provision, through strategies such as: providing information to new drivers as they apply for their license; adding information to the driver's license exam study guides; disseminating information through high schools; disseminating information to parents/caregivers; and, including information about the GDL law provisions and sanction in driver's education classes, etc.

(3) High-Visibility Enforcement

Although most young drivers will generally adhere to the constraints placed on their license, there is a need to ensure that there are enforcement mechanisms in place. This helps to underscore the societal expectation of responsible driving behavior. It also provides a source of external motivation to comply for those individuals who are less concerned about general social expectations. It is well documented that the visible presence of active enforcement will increase compliance.

GDL, however, appears to be a low priority for law enforcement and available information suggests that law enforcement and motor vehicle departments do not enforce GDL vigorously. Some GDL provisions are inherently difficult to enforce, since violations are difficult to detect (such as nighttime driving restrictions). However, law enforcement could check on possible GDL violations when they stop a young driver's vehicle for some other reason, such as speeding (Foss and Goodwin, Journal of Safety Research 34(2003) 79-84).

If applicants propose this strategy, they must address how law enforcement officers will be educated about GDL in their State (and the safety belt provision within the GDL law), and how law enforcement will be educated about the importance of enforcing this law. Applicants must submit an enforcement plan that demonstrates increased, intensive enforcement (such as that applied in the Click It or Ticket Model). To be considered for an award under this Cooperative Agreement using this strategy, the applicant also shall demonstrate how the messaging/media will coincide with the enforcement component to create a high-visibility campaign.

Evaluation of Programs

Meaningful and timely evaluations of the State's Teen Occupant Protection Campaign are essential for its success. Possible evaluation measures for this campaign include: safety belt use among young drivers in the State (pre- and post-implementation of strategies), using a mini-statewide survey; safety belt citations issued to young drivers in the targeted age group, and if available, Department of Motor Vehicle (DMV) or court/adjudication data (pre- and post-education of law enforcement); young driver awareness of GDL law and attitudes (pre- and post-implementation of strategies), using DMV or telephone surveys; law enforcement attitudes and awareness of GDL in State (pre- and post-education of law enforcement).

If selected for award of this Cooperative Agreement, the applicant must be willing to cooperate with a NHTSA evaluator, who will help the State identify the most appropriate and effective data collection sources and evaluation methods, as well as assist with the implementation of the evaluation.

Availability of Funds and Period of Performance

Contingent on the availability of funds and satisfactory performance, Cooperative Agreement(s) awarded under this announcement will extend for a performance period not to exceed 36 months (three-years), with 30 months of planning and implementation, and six months for evaluation and preparation of the final report. A total of $650,000 is currently available to provide funding for one or two States to support a Teen Occupant Protection Campaign. The Government reserves the right to make multiple awards under this announcement. Applicants should submit projects and associated budgets for three-years of the performance period. It is estimated that any award under this announcement will occur in September 2004.

NHTSA Involvement

In support of the activities undertaken by this grant program, NHTSA will:

1. Provide a Contracting Officer's Technical Representative (COTR) to coordinate activities between the Grantee and NHTSA during the performance of the resultant Cooperative Agreement, and to serve as a liaison between NHTSA Headquarters, NHTSA Regional offices and the Grantee.

2. Provide information and technical assistance from other government sources and available resources as determined appropriate by the COTR.

3. Serve as a liaison between NHTSA Headquarters, Regional Offices, and others (Federal, State, and local) interested in occupant protection for young drivers, and/or interested in the activities of the Grantee(s) as appropriate.

4. Stimulate the transfer of information among Cooperative Agreement recipients and others engaged in occupant protection programs.

5. Review and approve draft and final versions of the deliverables.

Successful Applicant Responsibilities

NHTSA intends to replicate successful strategies and activities conducted pursuant to this Cooperative Agreement in other States. Therefore, this project will be closely monitored and its results shared with other programs and constituencies. NHTSA will work with the successful applicant(s) to ensure that the necessary components of the project are in place to fulfill this goal. Successful applicant responsibilities include:

1. Briefing—Participate with key NHTSA staff in the initial briefing/start-up meeting, which will take place after the Cooperative Agreement is awarded. The meeting will take place at NHTSA Headquarters in Washington, DC within (30) days after award of the resultant Cooperative Agreement. The purpose of the meeting will be to review the project's objectives, planned course of action, responsibilities, milestones and deliverables, and to resolve any differences between the government's approach and the successful applicant's approach. The successful applicant shall first conduct a short briefing (20-30 minutes) describing the organization's planned approach and provide attendees with appropriate briefing materials. After the prepared briefing, the successful applicant and NHTSA personnel will discuss specific details of the project.

2. Site Selection for Strategy Implementation—The successful applicant (s) shall select the appropriate sites for the strategies to be implemented. The sites shall be in mid-sized communities (avoiding very small or large urban communities) and teens should represent approximately six (6) to ten (10) percent of the overall population.

3. Form a Project Task Force—To foster collaboration with new and existing partners, the successful applicant(s) will organize a project task force. The task force will meet quarterly, at minimum, to discuss and plan project strategies, identify opportunities for collaboration and resource sharing, identify significant deliverables and milestones within the deliverable/milestone schedule, and coordinate other project related activities. Potential key members for the task force shall include social marketing/media consultants, law enforcement representatives, public health/injury prevention professionals, representatives from research and/or academic institutions, and State and local government representatives (State Highway Safety Office, Department of Motor Vehicles, Department of Health, Department of Education, etc.).

4. Personnel and Equipment—Provide necessary skilled personnel and equipment needed for performing the work under this Agreement. Assign a project officer as the point of contact for NHTSA's COTR for the purpose of ongoing coordination and review of the day-to-day work under this Agreement.

5. Campaign Oversight—Provide ongoing project oversight, including oversight of any sub-grantee(s), the project task force and related project staff.

6. Evaluation—The successful applicant(s) shall be responsible for collecting information about project activities, resources and outcomes. In partnership with NHTSA, the successful applicant(s) shall develop a process evaluation plan to document materials, marketing, media, education, and enforcement activities, as applicable. The evaluation plan shall include how the ultimate success of this project will be measured, i.e., what outcome data will be necessary. The successful applicant(s) shall work with a NHTSA evaluator, who will be available to assist with the design and evaluation of the project.

7. Report and Written Deliverables—Provide quarterly reports, annual summary reports, and a final report to the NHTSA COTR. Maintain records of internal and management discussions on planning, implementation, and evaluation activities related to this project. Accurate project records will assist in the replication of the successful approaches and processes identified as a result of this Cooperative Agreement.

Allowable Uses of Federal Funds

Allowable uses of Federal funds shall be governed by the relevant allowable cost section and cost principles referenced in OMB Circular A-87 “—Cost Principles for State, Local or Indian Tribal Governments. Additional administrative requirements can be found in 49 CFR Part 18—Department of Transportation Uniform Administrative Requirements for Grants and Cooperative Agreements to State and Local Governments. Funds provided under this Cooperative Agreement shall be used to carry out the activities described in the project plan for which the Cooperative Agreement is awarded. A maximum of 15 percent of funds may be used for the purchase of equipment to assist in carrying out project activities.

Eligibility Requirements

Applicants are limited to key State agencies (e.g., highway safety offices, motor vehicle administrations, law enforcement agencies, and others) and traffic safety organizations, or a consortium of agencies/organizations. State level or national organizations shall demonstrate an understanding of safety belt use and related initiatives, such as Buckle Up America and the Click It or Ticket Campaign, and they shall demonstrate their capacity and commitment to administer/oversee the project.

To be eligible for award of the resultant Cooperative Agreement, documentation shall be provided that verifies that the State has a safety belt provision within the GDL law, or will have such a provision by the time of the award.

Applicants must be able to provide financial support to State and local law enforcement agencies that have jurisdiction within the community or county. Financial support might include funding overtime enforcement activities or other incentives to participate in the project.

All primary applicants and/or sub-grantees that will be conducting activity within a specific State or Tribal community using this funding shall include a letter of support from the applicable State Highway Safety Office with their application. To fulfill this requirement, applicants or grantees conducting activities within specific Tribal communities shall provide a letter from the Bureau of Indian Affairs, Indian Highway Safety Program. In addition, the applicant shall include letters of cooperation and participation from key partners who will be involved in the project. These partners shall include law enforcement agencies, marketing and media contractors/consultants, research institutions, the judicial branch of government, public health personnel, and other public and private sector partners.

Specifically, successful applicants shall have:

1. Demonstrated understanding and expertise in the development and implementation of traffic safety programs and substantial knowledge of safety belt issues, particularly for young drivers in the targeted age group;

2. Organizational infrastructure with adequate staff and resources to handle the day-to-day logistical needs of the program;

3. Staff with adequate writing skills to prepare press releases, reports, articles and other methods of promotion and communication;

4. Demonstrated ability to work with the media (e.g., develop media buy plans, place media buys, etc.) or coordinate this effort with an appropriate firm;

5. Demonstrated ability to work with law enforcement to develop a high-visibility enforcement campaign, or coordinate this effort with the appropriate agency;

6. Demonstrated capacity and experience with program planning, design and data collection and analysis; and

7. The capability to outline strategies and successes and challenges of the project to serve as a model for other States.

Application Procedures

Each applicant shall submit one (1) original and four (4) copies of the application package to: Department of Transportation (DOT), National Highway Traffic Safety Administration (NHTSA), Office of Contracts and Procurement (NPO-220), 400 7th Street, SW., Room 5301, Washington, DC 20590, Attention: Ross S. Jeffries, Contract Specialist. Applications may be single spaced, typed on one side of the page only, must not exceed 25 pages, and must include a reference to NHTSA Cooperative Agreement No DTNH22-04-H-05111. Appendices, which may be included, are not counted in the 25-page limit.

Only complete packages received on or before 3 p.m. e.d.t. on June 28, 2004 will be considered.

Note: All questions concerning this announcement shall be directed to Ross S. Jeffries, Contract Specialist. Mr. Jeffries may be reached by telephone at (202) 366-6283 or by E-mail: ross.Jeffries@nhtsa.dot.gov. It is preferred that any and all such questions be sent via E-mail to Mr. Jeffries.

Application Contents

Applicant(s) must include all of the contents listed below in their application package:

1. The application package must be submitted with OMB Standard Form 424, (Rev. 7-97 or 4-88, including 424A and 424B), Application for Federal Assistance, with the required information provided and the certified assurances included. While the Form 424-A deals with budget information, and section B identifies Budget Categories, the available space does not permit a level of detail that is sufficient to provide for a meaningful evaluation of the proposed costs. A supplemental sheet should be provided which presents a detailed cost breakdown of the proposed total project effort, including evaluation and reporting, (direct labor, including labor category, level of effort, and rate; direct materials, including itemized equipment; travel and transportation, including projected trips and number of people traveling; sub-contracts/sub-grants, with similar detail, if known; and overhead) and since activities may be performed with a variety of financial resources, applicants need to fully identify all project cost and their funding sources in the proposed budget. The proposed budget must identity all funding sources in sufficient detail to demonstrate that the overall objectives of the project will be met. The estimated costs should be separated and proposed by year. Applicants may obtain the required forms from Web site: http://www.whitehouse.gov/omb/grants/.

2. The application shall include a project narrative not to exceed 25 pages that provides the following information in separately labeled sections:

A. Introduction: Brief general description of the State's geographic and demographic population distribution, including population estimates for teens in the State, any unique characteristics of the State relevant to the applicant's plan to increase safety belt use, and a summary of available information on teen motor vehicle injuries and fatalities in the State, young drivers safety belt use rates and trends, and young driver awareness and attitudes toward belt use and the State's GDL law.

B. The State's GDL Law: A description of the State's GDL law and the safety belt provision within the law (including the sanction/penalty for violating the safety belt provision). If available, this section should also include recent data regarding how many young drivers are cited for a safety belt violation while in GDL, and how many of these young drivers then received the associated sanction (such as increased fine or delayed “graduation”).

C. Goals and Objectives: A discussion section that presents the principal goals and objectives of the proposed plan and articulates the potential to increase safety belt use rates within the young drivers in target age group, with supporting rationale. This section must identify any proposed partnerships and key members of the project task force. Documentation of existing public and/or political support may also be included (e.g. endorsement of the Governor, Community Police or Patrol, Association of Chiefs of Police, Community Medical Society, etc).

D. Project Description. This section shall include a detailed description of the activities to be implemented in the plan, including:

1. Key strategies to be employed;

2. Key features (e.g. participants, design, methodology); and

3. A project plan that includes a listing of milestones in chronological order, to show the schedule of expected accomplishments and their target dates.

The project plan must include a comprehensive social marketing strategy that includes the following information:

1. Planning;

2. Message and Materials Development;

3. Pre-testing;

4. Implementation; and

5. Evaluation and Feedback.

When describing messaging and materials development, applicants shall also discuss the following:

1. Product: What is the behavior that young drivers are being asked to adopt?

2. Price: What do young drivers have to give up to adopt the behavior, what will they gain?

3. Place: What distribution channels will be used to get the message to young driver (paid and earned media)?

4. Promotion: How will teens be reached and motivated with the message (public relations, promotions, media advocacy, special events, etc.)?

In a project plan that includes promotion of the State's GDL safety belt provision, the applicant shall provide the following information:

1. The strategies planned to build awareness about the safety belt provision, such as: providing information to new drivers as they apply for their license; adding information to the driver's license exam study guides; disseminating information through high schools; disseminating information to parents/caregivers; peer-to-peer awareness activities; and, including information about the GDL law provisions and sanction in driver's education classes, etc.

2. Community or other partners that will be involved in this effort; and,

3. Measures (process and outcome) that will be used to evaluate success of promotional/awareness strategies.

In a project plan that includes a comprehensive enforcement strategy, the applicant shall provide the following information:

1. Strategies that will be used to educate law enforcement about GDL (e.g., roll call videos, workshops, etc.) and number of officers expected to participate in education;

2. The number of law enforcement agencies that are expected to participate in heightened enforcement;

3. The kinds of law enforcement activities and strategies that will take place (e.g., checkpoints, saturation patrols, foot patrols at selected intersections, etc.);

4. The number of officers that will participate;

5. The percentage of contacts with the young drivers in the targeted age group, on average, that are expected to result in a citation for a safety belt violation; and

6. The full extent that other community partners will be involved, such as educators, business owners, the judicial branch of government, public health personnel, and other public and private sector partners.

E. Personnel: This section shall identify the proposed project officer and other proposed key personnel considered critical to the successful accomplishment of the activities under this project. A brief description of their qualifications and respective responsibilities shall be included. The proposed level of their effort and contributions to the various activities in the plan shall also be identified. Each organization, corporation, or consultant who will work on the project shall be identified, along with a short description of the nature of the effort or contribution and relevant experience.

F. Evaluation: This section shall describe how the project will be evaluated and what measures will be used to determine the outcomes of the activities in the project plan. This section shall demonstrate the applicant's willingness to work with a NHTSA evaluator, who will be available to assist the successful applicant with the evaluation design and implementation. It is critically important that the resultant Cooperative Agreement be carefully evaluated so that other States may learn the relative strengths and weaknesses of the strategies and approaches undertaken and what effects they have on safety belt use rates. The evaluation section shall describe the methods for assessing actual results achieved under the plan. Outcomes can be documented in a number of ways. Increases in observed safety belt use and reductions in motor vehicle crash fatalities and injuries provide the ultimate measure of success. However, intermediate measures, such as changes in enforcement policies and procedures, as well as increases in citations for young drivers for non-safety belt use may be utilized to measure progress.

In particular, the applicant's proposal shall describe how it intends to assess the effectiveness of its project with respect to:

1. Safety belt use among young drivers (pre- and post-implementation of strategies);

2. Safety belt citations issued to young drivers (pre- and post-education of law enforcement);

3. Young driver awareness of GDL law and attitudes (pre- and post-implementation of strategies); and

4. Law enforcement attitudes and awareness of GDL in State (pre- and post-education of law enforcement).

G. Past Performance and Financial Responsibility. To evaluate this information adequately, the Applicant shall provide the following information:

(1) Identify at least three references who can attest to the past performance history and quality of work provided by the Applicant on previous assistance agreements and/or contracts. In doing so, the Applicant shall provide the following information for each reference:

(a) Assistance Agreement/ Contract Number;

(b) Title and brief description of Assistance Agreement/ Contract;

(c) Name of organization, name of point of contact, telephone number, and e-mail address of point of contact at the organization with which the Applicant entered into an Assistance Agreement/ Contract;

(d) Dollar value of Assistance Agreement/ Contract;

(e) Any additional information, which the Applicant may provide to address the issue of past performance and financial responsibility.

(2) The Applicant shall indicate if it has ever appeared on the General Service Administration's (GSA) List of Parties Excluded From Federal Procurement and Non-procurement Programs or on GSA's “Excluded Parties List.” If so, the Applicant shall discuss the circumstances leading up to its inclusion in either of these listings and its current status to enter into Assistance Agreements and/or Contracts.

(3) The Applicant shall indicate if it has ever filed for bankruptcy, or has had any financial problems, which may affect, negatively, its ability to perform under this Assistance Agreement.

Review Procedures, Criteria and Evaluation Factors

Each application package will be reviewed initially to confirm that the applicant is an eligible candidate (as described under Eligibility Requirements) and has included all of the items specified in the Application Procedure section of this announcement. A NHTSA Evaluation Committee will then evaluate applications submitted by eligible candidates. It is anticipated that awards will be made in September 2004. The applications will be evaluated using the following criteria (listed in descending order of importance).

1. Past Performance and Financial Responsibility—The extent to which the proposed Grantee has fulfilled its performance and financial obligations on previous Assistance Agreements and/or Contracts will be evaluated. This evaluation will include:

(a) The proposed Grantee's record of complying with milestone and performance schedules applicable to previous Assistance Agreements and/or Contracts;

(b) The proposed Grantee's record of cooperation with the awarding agency under previous Assistance Agreements and/or Contracts;

(c) The degree to which the proposed Grantee efficiently and effectively utilized Assistance Agreement and/or Contract funding;

(d) The degree to which the proposed Grantee complied with the terms and conditions of previous Assistance Agreements and/or Contracts;

(e) The degree to which the proposed Grantee complied with applicable Office of Management and Budget (OMB) Circulars and/or the Federal Acquisition Regulation, on previous Assistance Agreements and/or Contracts;

(f) The level of financial stability possessed by the proposed Grantee.

2. Organizational Capabilities—The applicant shall provide and will be evaluated on the degree to which it has a viable organizational entity with sufficient demonstrated commitment and experience in performing the tasks required for successful implementation of this Cooperative Agreement. Specifically, the applicant shall demonstrate: an understanding and knowledge of traffic safety initiatives (e.g., Buckle Up America, Click It or Ticket Campaign, etc.); knowledge of strategies to increase safety belt use, particularly for the teen population; ability to organize/oversee a social marketing campaign with a strong media component; and, research and evaluation capacity, or affiliation with an academic/research institution or other entity that possesses these critical capabilities.

3. Project Plan/Approach—The applicant shall provide and will be evaluated on the degree to which it has a sound and feasible plan for the development of program activities. The approach shall demonstrate: a clear and comprehensive understanding of young drivers traffic safety issues (including applicable data on the scope of the problem for teens in the State); knowledge of GDL laws and specific elements of the GDL law in the State; and, understanding of effective strategies to increase safety belt use in the targeted age group of 16 to 20.

4. Evaluation Plan—The applicant shall provide and will be evaluated on the degree to which it has a sound and feasible plan for how the project will be evaluated and what measures will be used to determine the outcomes of the activities in the project plan. The applicant shall demonstrate a willingness to work with NHTSA evaluators to ensure a comprehensive evaluation plan. It is critically important that the resultant Cooperative Agreement be carefully evaluated so that other state may learn the relative strengths and weaknesses of the strategies and approaches undertaken and what effects they have on safety belt use rates. The evaluation section shall describe the methods for assessing actual results achieved under the plan.

5. Partnerships/Collaboration—The applicant shall demonstrate and will be evaluated on the degree to which it has the ability (through examples of current and prior activities) to form effective partnerships with other organizations, coalitions, and community leaders/officials, etc. The applicant shall develop a preliminary structure and membership for the Project Task Force and address the rationale for the membership and their roles and responsibilities.

6. Project Management—The applicant shall demonstrate and will be evaluated on the degree to which it has a sound program management structure and delineation of responsibility for different parts of the project. NHTSA will assess the qualifications and expertise of project personnel. The applicant's staffing should be adequate to manage and implement the project.

7. Budget—The applicant shall include a budget that clearly identifies, itemizes and explains project costs. NHTSA will give a preference to applicants who identify resources from within or outside their organization to support the project during and beyond the grant period. Additionally, the applicant will be evaluated on how it efficiently utilizes the requested Government funds.

Terms and Conditions of Award

1. Prior to award, each applicant must comply with the certification requirements of 49 CFR Part 20, Department of Transportation New Restrictions on Lobbying, and 49 CFR Part 29, Department of Transportation Government wide Debarment and Suspension (Non procurement) and Government wide Requirements for Drug Free Workplace (Grants).

2. Reporting Requirements and Deliverables:

a. Quarterly Progress Reports: A summary of the previous quarter's activities and accomplishments, significant problems encountered or anticipated, an itemization of expenditures made during the quarter, and proposed activities for the upcoming quarter. Press clips and highlights from activities should be included in each quarterly report. Any decisions and actions required in the upcoming quarter should also be in the report.

b. Annual Summary Report: At the completion of each year of the Cooperative Agreement, the Grantee will be required to submit an annual summary report. The reports will include a list of partners, materials developed and disseminated, and feedback from the field, as well as document and review the notable accomplishments of the year, evaluation results and recommendations for the future years' efforts.

c. Draft Final Report: The Grantee will be required to prepare a Draft Final Report that includes a complete description of the projects conducted, including partners, overall program implementation, evaluation methodology and findings from the program evaluation. In terms of information transfer, it is important to know what worked and what did not work, under what circumstances, and what can be done to avoid potential problems in future projects. The Grantee will be required to submit the Draft Final Report to the COTR 60 days prior to the end of the performance period. The COTR will review the draft report and provide comments to the Grantee within 15 days of receipt of the document.

d. Final Report: The revised Final Report will be delivered to the COTR one (1) month before the end of the performance period and reflect the COTR's comments. The comprehensive report will detail the major activities, events, data collection, methodology, and best practices/strategies that can be replicated in other States. The Grantee shall supply the COTR with:

• Four hard copies of the final document;

• A disk (or CD-ROM) of the report in Microsoft Word Format; and

• A redlined version of the Final Report reflecting changes made in response to the COTR's comments.

e. Briefings and Presentations: The Grantee will be required to conduct a final briefing with NHTSA officials and other invited parties in Washington, DC upon the completion of the project. An initial briefing and an interim briefing, approximately midway through the period of performance, may be required. The Grantee will be required to prepare an article and submit it for publication in a professional journal. All articles and briefings shall be submitted to NHTSA initially in draft format for review and comment. The Grantee will be required to submit drafts to the COTR 30 days before the event date or publication submission date.

3. During the effective performance period of Cooperative Agreements awarded as a result of this announcement, the agreement shall be subject to NHTSA's General Provisions for Assistance Agreements, dated July 1995.

Issued on: May 4, 2004.
Sue D. Ryan,
Director, Office of Safety Programs, Program Development and Delivery.

[FR Doc. 04-13057 Filed 6-8-04; 8:45 am]

BILLING CODE 4910-59-P